DEPARTMENT OF HEALTH AND HUMAN SERVICES

National Institutes of Health

National Cancer Institute Amended; Notice of Meeting

Notice is hereby given of a change in the meeting of the National Cancer Advisory Board, September 16, 2015, 01:00 p.m. to September 16, 2015, 03:00 p.m., National Cancer Institute Shady Grove, 9609 Medical Center Drive, Rockville, MD, 20850 which was published in the Federal Register on August 18, 2015, 80FR50016.

This meeting is being amended to change the end time of the Open Session on September 16, 2015 from 2:00 p.m. to 1:30 p.m. and the Closed Session time from 2:00 p.m. to 3:30 p.m. to 1:30 p.m. to 3:00 p.m. The meeting is partially Closed to the public.

Dated: August 21, 2015.
Melanie J. Gray,
Program Analyst, Office of Federal Advisory Committee Policy.

[FR Doc. 2015-21225 Filed 8-26-15; 8:45 am]

BILLING CODE 4140-01-P